DEPARTMENT OF COMMERCE

National Oceanic and Atmospheric Administration

[I.D. 081705C]

New England Fishery Management Council; Public Meeting

AGENCY: National Marine Fisheries Service (NMFS), National Oceanic and Atmospheric Administration (NOAA), Commerce.

ACTION: Notice; committee meeting.

SUMMARY: The New England Fishery Management Council's (Council) Scallop Oversight Committee will meet to consider actions affecting New England fisheries in the exclusive economic zone (EEZ).

DATES: The two-day meeting will be held on Wednesday, September 7, 2005, from 9 a.m. to 5 p.m. and Thursday, September 8, 2005, from 8:30 a.m. to 5 p.m.

ADDRESSES: The meeting will be held at the Four Points by Sheraton, 407 Squire Road, Revere, MA 02151; telephone: (781) 284-7200.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the committee's agenda are as follows:

Wednesday, September 7, 2005, at 9 a.m.

The Oversight Committee will review the analysis of alternatives in Framework Adjustment 18 (FW 18) and identify preferred alternatives. The Council will take a final vote on these recommendations when it meets on September 13-15, 2005 in Fairhaven, MA. FW 18 includes alternatives addressing the following: area rotation measures; specifications for trip and days-at-sea (DAS) allocations in 2006 and 2007; a proposed Notice Action procedure to adjust 2007 Elephant Trunk Area and open area allocations based on surveys of scallop biomass; measures to constrain the growth of the general category scallop fishery; an increase in the crew limits for controlled access area trips; a new bycatch data collection and monitoring program; changes in controlled access area trip exchange measures and deadlines; a measure to further liberalize the broken trip exemption program, and changes in the research set-aside program.

Thursday, September 8, 2005, at 8:30 a.m.

Continuation of above agenda.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Dated: August 18, 2005.
Emily Menashes,
Acting Director, Office of Sustainable Fisheries, National Marine Fisheries Service.

[FR Doc. E5-4598 Filed 8-22-05; 8:45 am]

BILLING CODE 3510-22-S